DEPARTMENT OF THE INTERIOR

Fish and Wildlife Service

Availability of a Draft Supplemental Environmental Impact Statement (DSEIS) To Evaluate Continued Sea Lamprey Control in Lake Champlain

AGENCY: U.S. Fish and Wildlife Service, Interior (Lead Agency); New York State Department of Environmental Conservation; Vermont Department of Fish and Wildlife (Cooperating Agencies).

ACTION: Notice of availability for public comment.

SUMMARY: This notice announces the availability of a DSEIS on a proposal to continue sea lamprey control in Lake Champlain. The U.S. Fish and Wildlife Service (USFWS) in cooperation with the Vermont Department of Fish and Wildlife (VTDFW) and the New York State Department of Environmental Conservation (NYSDEC) prepared a DSEIS to evaluate the proposal to continue sea lamprey control in Lake Champlain, to maintain reduced levels of sea lamprey and achieve further reductions. The DSEIS has been prepared pursuant to section 102(2)(c) of the National Environmental Policy Act (NEPA) of 1969, in accordance with the Council on Environmental Quality regulations for implementing NEPA (40 CFR parts 1500 to 1508). USFWS invites other Federal agencies, States, Indian tribes, local governments, and the general public to submit comments on the document. All comments received, including the names and addresses, will become part of the administrative record and may be made available to the public.

DATES: Written comments must be received on or before April 30, 2001.

ADDRESSES: Written comments regarding the DSEIS should be addressed to Mr. Dave Tilton, Project Leader, USFWS Lake Champlain Office, 11 Lincoln St., Essex Junction, Vermont 05452. Written comments may also be sent by facsimile to 802-872-9704. Alternatively, comments may be submitted electronically to the following address—dave_tilton@fws.gov.

FOR FURTHER INFORMATION CONTACT: Mr. Dave Tilton, Project Leader, USFWS Lake Champlain Office, 11 Lincoln St., Essex Junction, Vermont 05452, 802-872-0629, Ext. 12, FAX 802-872-9704. New York contact person is Mr. Lawrence Nashett, Supervising Aquatic Biologist, New York Department of Environmental Conservation, Region 5, PO Box 296, Ray Brook, New York 12977, 518-897-1333. Vermont contact person is Mr. Brian Chipman, District Fisheries Biologist, Vermont Department of Fish and Wildlife, 111 West Street, Essex Junction, Vermont 05452, 802-878-1564.

SUPPLEMENTARY INFORMATION:

Background

Sea lamprey are primitive marine invaders to Lake Champlain. They are parasitic fish that feed on the body fluids of other fish resulting in reduced growth and often the death of host fish. A substantial body of information collected on Lake Champlain indicates sea lamprey have a profound negative impact upon the lake's fishery resources and have suppressed efforts to establish new and historical sportfisheries. In 1990, the USFWS, NYSDEC, and VTDFW initiated an 8-year experimental sea lamprey control program for Lake Champlain. The experimental program treated tributaries and deltas of Lake Champlain with the chemical lampricides TFM and Bayluscide, which substantially reduced larval sea lamprey numbers in treated waters. The program included monitoring and assessment of the effects of sea lamprey reduction on the characteristics of certain fish populations, the sport fishery and the area's growth and economy. A set of 30 evaluation standards were established. Overall, the experimental sea lamprey control program met or exceeded the majority of the standards. In addition to this evaluation, the cooperating agencies assessed the effects of the program on nontarget organisms.

Two rounds of treatments were planned for each significantly infested stream and delta. From 1990 through 1996, 24 TFM treatments were conducted on 14 Lake Champlain tributaries, and 9 Bayluscide (5 percent granular) treatments were conducted on 5 deltas. A cumulative total of approximately 141 stream miles and 1220 delta acres were treated. In summary, trap catches of spawning-phase sea lamprey declined by 80 to 90 percent; nest counts were reduced by 57 percent. Sixteen of 22 TFM treatments reduced ammocoetes at index stations to less than 10 percent of pre-treatment levels. Eight of the nine Bayluscide treatments resulted in mean mortality rates over 85 percent among caged ammocoetes. Relatively small numbers of nontarget amphibian and fish species were killed. Adverse effects on nontarget species were higher for Bayluscide treatments than TFM. Native mussels, snails and some other macroinvertebrates were significantly affected after the 1991 Bayer 73 treatments of the Ausable and Little Ausable deltas in New York. However, they recovered to pre-treatment levels within 4 years. American brook lamprey also experienced substantial treatment-related mortality. Yet, the finding of dead American brook lamprey in second-round treatments in each stream where they were negatively affected during the first round suggested their populations persisted. Wounding rates on lake trout and landlocked Atlantic salmon were reduced in the main lake basin, and catches of both species increased. A significant increase in survival of age 3 to 4 lake trout was noted; survival of older fish improved but did not change significantly. Returns of Atlantic salmon to tributaries increased significantly after treatment. Changes in wounding rates on brown and rainbow trout could not be evaluated, but angler catches have increased since 1990. Catch per unit of effort of rainbow smelt, the major forage species for salmonids, decreased significantly at one of two sampling stations in the main lake basin and in Malletts Bay, but not at other locations; length-at-age also decreased at most sites. Evaluation of angler and general public responses to the program indicated a favorable, 3.5:1 economic benefit:cost ratio.

A Comprehensive Evaluation of an Eight Year Program of Sea Lamprey Control in Lake Champlain provides a detailed description of the results of the project. It is available on the USFWS web-site at, [www.fws.gov/r5lcfwro/lamprey/lamprey.html.], or from any of the contacts for further information listed above.

Decision To Be Made

The responsible officials in the USFWS, NYSDEC, and VTDFW must decide whether to continue sea lamprey control for Lake Champlain. In addition, if sea lamprey control will continue, the agencies must also consider the following:

(1) Should the following list be established as the long term program objectives?

(a) Achieve and maintain lamprey wounding rates at or below 25 wounds per 100 lake trout, ideally 10 wounds per 100 lake trout; 15 wounds per 100 landlocked salmon, ideally 5 wounds per 100 landlocked salmon, and; 2 wounds per 100 walleye, ideally 0 wounds per 100 walleye.

(b) Attain target wounding rates within 5 years of full implementation of the Proposed Action. Full implementation is defined as application of optimal sea lamprey control strategies on tributaries identified in Proposed Action.

(c) Employ an integrated approach to continuing sea lamprey control using lampricides and nonchemical means.

(2) What mitigation and monitoring measures are required for sound resource management?

(3) Is sea lamprey control in the best interest for the resource and citizens of the States of New York and Vermont?

The Final Supplemental Environmental Impact Statement and Record of Decision is expected to be released by August 2001. The Responsible Officials will make a decision regarding this proposal after considering public comments, and the environmental consequences displayed in the Final Supplemental Environmental Impact Statement, applicable laws, regulations, and policies. The decision and supporting reason will be documented in the Record of Decision.

Dated: February 23, 2001.
Richard O. Bennett,
Acting Regional Director.

[FR Doc. 01-6437 Filed 3-14-01; 8:45 am]

BILLING CODE 4310-55-P